DEPARTMENT OF COMMERCE

International Trade Administration

[A-533-840]

Certain Frozen Warmwater Shrimp From India: Rescission of Antidumping Duty Administrative Review; 2018-2019, in Part

AGENCY: Enforcement and Compliance, International Trade Administration, Department of Commerce.

SUMMARY: On May 2, 2019, the Department of Commerce (Commerce) initiated an administrative review on frozen warmwater shrimp from India for the period February 1, 2018, through January 31, 2019, for 254 companies. Because all interested parties timely withdrew their requests for administrative review for certain companies, we are rescinding this administrative review with respect to those companies. For a list of the companies for which we are rescinding this review, see Appendix I to this notice. For a list of the companies for which the review is continuing, see Appendix II to this notice.

DATES: Applicable November 15, 2019.

FOR FURTHER INFORMATION CONTACT: Manuel Rey or Brittany Bauer, AD/CVD Operations, Office II, Enforcement and Compliance, International Trade Administration, U.S. Department of Commerce, 1401 Constitution Avenue NW, Washington, DC 20230; telephone: (202) 482-5518 or (202) 482-3860.

SUPPLEMENTARY INFORMATION:

Background

On February 8, 2019, Commerce published in the Federal Register a notice of opportunity to request an administrative review of the antidumping duty order on frozen warmwater shrimp from India for the period February 1, 2018, through January 31, 2019.¹ In February 2019, Commerce received timely requests, in accordance with section 751(a) of the Tariff Act of 1930, as amended (the Act), to conduct an administrative review of this antidumping duty order from the Ad Hoc Shrimp Trade Action Committee (the petitioner), the American Shrimp Processors Association (ASPA), and certain individual companies. Based upon these requests, on May 2, 2019, in accordance with section 751(a) of the Act, Commerce published in the Federal Register a notice of initiation listing 253 companies for which Commerce received timely requests for review.²

¹ See Antidumping or Countervailing Duty Order, Finding, or Suspended Investigation; Opportunity to Request Administrative Review, 84 FR 2816 (February 8, 2019).

² See Initiation of Antidumping and Countervailing Duty Administrative Reviews, 84 FR 18777 (May 2, 2019) (Initiation Notice).

In July 2019, all interested parties timely withdrew their requests for an administrative review of certain companies.³ These companies are listed in Appendix I.

³ See Magnum Sea Foods Limited (MSL) and Magnum Estates Limited (MEL) (collectively, Magnum) Letter, “Magnum Withdrawal of Review Request for Administrative Review of the Antidumping Duty Order on Certain Frozen Warmwater Shrimp from India,” dated July 26, 2019; West Coast Frozen Foods Private Limited (West Coast) Letter, “Frozen Warmwater Shrimp from lndia—Withdrawal of Request for Antidumping Duty Admin Review of West Coast Frozen Foods Private Limited,” dated July 30, 2019; Jafadeesh Marine Exports' Letter, “Certain Frozen Warmwater Shrimp from India: Withdrawal of Request for 14th Administrative Review covering the Period from 01st February 2018 to 31st January 2019,” dated July 30, 2019; Mangala Marine Exim India Private Limited Letter, “Certain Frozen Warmwater Shrimp from India: Withdrawal of Request for 14th Administrative Review covering the Period from 01st February 2018 to 31st January 2019,” dated July 29, 2019; Liberty Group comprised of Devi Marine Food Exports (P) Ltd., Universal Cold Storage (P) Ltd., Kader Exports (P) Ltd., Liberty Frozen Foods (P) Ltd., Premier Marine Products (P) Ltd., Kader Investment & Trading Company (P) Ltd., and Liberty Oil Mills Limited) (collectively Liberty Group), Devi Fisheries Group (comprised of Devi Fisheries Limited, Satya Seafoods Private Limited, Usha Seafoods, and Devi Aquatech Private Limited), and Falcon Marine Exports Limited (Falcon) Letter, “Certain Frozen Warmwater Shrimp from India: Withdrawal of Requests for Administrative Review for Liberty Group, Falcon and Devi Fisheries Group (2/01/18-1/31/19),” dated July 30, 2019; twenty-five (25) Indian producers and/or exporters Letter, “Certain Frozen Warmwater Shrimp from India: Withdrawal of Requests for Administrative Review for 25 Indian Producers/Exporters (02/01/18-01/31/19),” dated July 30, 2019; Ad Hoc Shrimp Trade Action Committee (AHSTAC) Letter, “Certain Frozen Warmwater Shrimp from India: Domestic Producers' Partial Withdrawal of Review Requests,” dated July 30 2019; and American Shrimp Processors Association (ASPA) Letter, “Certain Frozen Warmwater Shrimp from India: American Shrimp Processors Association's Partial Withdrawal of Review Requests,” dated July 30, 2019.

Partial Rescission

Pursuant to 19 CFR 351.213(d)(1), the Secretary will rescind an administrative review, in whole or in part, if a party who requested the review withdraws the request within 90 days of the date of publication of notice of initiation of the requested review. As noted above, certain parties withdrew their requests for review by the 90-day deadline. Accordingly, we are rescinding this administrative review with respect to the companies listed in Appendix I.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) of the Act and 19 CFR 351.213(d)(4).

Dated: November 8, 2019.
James Maeder,
Deputy Assistant Secretary for Antidumping and Countervailing Duty Operations.

Appendix I

Akshay Food Impex Private Limited

Alashore Marine Exports (P) Ltd.

Alpha Marine

Ananda Aqua Applications/Ananda Aqua Exports (P) Limited/Ananda Foods ⁴

⁴ In past reviews, Commerce has treated these companies as a single entity. See, e.g., Certain Frozen Warmwater Shrimp from India: Final Results of Antidumping Duty Administrative Review; 2016-2017, 83 FR 32835 (July 16, 2018) (2016-2017 AR Final). Absent information to the contrary, we continue to treat these companies as a single entity for purposes of this administrative review.

Ananda Enterprises (India) Private Limited

Anjaneya Seafoods

Apex Frozen Foods Private Limited ⁵

⁵ On December 11, 2012, Apex Frozen Foods Private Limited was found to be the successor-in-interest to Apex Exports. See Final Results of Antidumping Duty Changed Circumstances Review: Certain Frozen Warmwater Shrimp from India, 77 FR 73619 (December 11, 2012). Therefore, we did not initiate a separate administrative review with respect to Apex Exports.

Aquatica Frozen Foods Global Pvt. Ltd.

Arya Sea Foods Private Limited

Asvini Exports

Asvini Fisheries Ltd/Asvini Fisheries Private Ltd ⁶

⁶ In past reviews, Commerce has treated these companies as a single entity. See, e.g., 2016-2017 AR Final. Absent information to the contrary, we continue to treat these companies as a single entity for purposes of this administrative review.

Avanti Frozen Foods Private Limited ⁷

⁷ On December 15, 2016, Avanti Frozen Foods Private Limited was found to be the successor-in-interest to Avanti Feeds Limited. See Certain Frozen Warmwater Shrimp from India: Notice of Final Results of Antidumping Duty Changed Circumstances Review, 81 FR 90774 (December 15, 2016). Therefore, we did not initiate a separate administrative review with respect to Avanti Feeds Limited.

Bluepark Seafoods Pvt. Ltd.

BMR Exports

BMR Industries Private Limited

C.P. Aquaculture (India) Pvt. Ltd.

Calcutta Seafoods Pvt. Ltd./Bay Seafood Pvt. Ltd./Elque & Co.⁸

⁸ In the 2017-2018 administrative review of this order, Commerce preliminarily determined it was appropriate to treat the following companies as a single entity: Calcutta Seafoods Pvt. Ltd., Bay Seafood Pvt. Ltd., and Elque & Co (Elque). See Certain Frozen Warmwater Shrimp from India: Preliminary Results of Antidumping Duty Administrative Review; 2017-2018, 84 FR 16843 (April 23, 2019) (2017-2018 AR Prelim) and accompanying Issues and Decision Memorandum at 3.

Castlerock Fisheries Ltd.

Choice Trading Corporation Pvt. Ltd.

Coastal Aqua

Coastal Aqua Private Limited ⁹

⁹ On October 3, 2018, Coastal Aqua Private Limited was found to be the successor-in-interest to Coastal Aqua. See Certain Frozen Warmwater Shrimp from India: Notice of Final Results of Antidumping Duty Changed Circumstances Review, 83 FR 49909 (October 3, 2018). Because the effective date of this determination is during the current POR, we included both exports from Coastal Aqua and Coastal Aqua Private Limited in this review.

Coastal Corporation Ltd.

Devi Fisheries Limited/Satya Seafoods Private Limited/Usha Seafoods/Devi Aquatech Private Limited ¹⁰

¹⁰ In past reviews, Commerce has treated these companies as a single entity. See, e.g., 2016-2017 AR Final. Absent information to the contrary, we continue to treat these companies as a single entity for purposes of this administrative review.

Devi Marine Food Exports Private Ltd/Kader Exports Private Limited/Kader Investment and Trading Company Private Limited/Liberty Frozen Foods Pvt. Ltd./Liberty Oil Mills Ltd/Premier Marine Products Private Limited/Universal Cold Storage Private Limited¹¹

¹¹ In past reviews, Commerce has treated these companies as a single entity. Id. Absent information to the contrary, we continue to treat these companies as a single entity for purposes of this administrative review. Additionally, on December 2, 2014, Premier Marine Products Private Limited was found to be the successor-in-interest to Premier Marine Products. See Notice of Final Results of Antidumping Duty Changed Circumstances Review: Certain Frozen Warmwater Shrimp from India, 79 FR 71384 (December 2, 2014).

Diamond Seafoods Exports/Edhayam Frozen Foods Pvt. Ltd/Kadalkanny Frozen Foods/Theva & Company ¹²

¹² In past reviews, Commerce has treated these companies as a single entity. See, e.g., 2016-2017 AR Final. Absent information to the contrary, we continue to treat these companies as a single entity for purposes of this administrative review.

Falcon Marine Exports Limited/KR Enterprises ¹³

¹³ In past reviews, Commerce has treated these companies as a single entity. Id. Absent information to the contrary, we continue to treat these companies as a single entity for purposes of this administrative review.

Geo Seafoods

Growel Processors Private Limited

IFB Agro Industries Limited

ITC Limited, International Business

ITC Ltd.

Jagadeesh Marine Exports

Jayalakshmi Sea Foods Pvt. Ltd.

K V Marine Exports

Kalyan Aqua & Marine Exp. India Pvt. Ltd.

KNC Agro Pvt. Ltd.

Magnum Sea Foods Limited/Magnum Estates Limited ¹⁴

¹⁴ In the 2017-2018 administrative review of this order, Commerce preliminarily determined it was appropriate to treat Magnum Sea Foods Limited and Magnum Estates Limited as a single entity. See 2017-2018 AR Prelim, 84 FR at 16845 and accompanying Issues and Decision Memorandum at 3.

Mangala Marine Exim India Pvt. Ltd.

Mangala Seafoods

Milesh Marine Exports Private Limited

Monsun Foods Pvt. Ltd.

Munnangi Seafoods (Pvt) Ltd.

Naga Hanuman Fish Packers

Neeli Aqua Private Limited

Nekkanti Sea Foods Limited

Nezami Rekha Sea Foods Private Limited

Nila Sea Foods Exports

Nila Sea Foods Pvt. Ltd.

Pasupati Aquatics Private Limited

Penver Products (P) Ltd.

Ram's Assorted Cold Storage Ltd.

Royale Marine Impex Private Limited

SA Exports

Sagar Grandhi Exports Pvt. Ltd.

Sai Marine Exports Pvt. Ltd.

Sai Sea Foods

Sandhya Aqua Exports

Sandhya Aqua Exports Pvt. Ltd.

Sandhya Marines Limited

Sharat Industries Ltd.

Shree Datt Aquaculture Farms Pvt. Ltd.

Southern Tropical Foods Pvt. Ltd.

Sprint Exports Pvt. Ltd.

Sunrise Aqua Food Exports ¹⁵

¹⁵ On September 27, 2019, Commerce issued the final results of a changed circumstances review and determined that Sunrise Seafoods India Private Limited is the successor in interest to Sunrise Aqua Food Exports. See Certain Frozen Warmwater Shrimp from India: Notice of Final Results of Antidumping Duty Changed Circumstances Review, 84 FR 51114 (September 27, 2019).

Suryamitra Exim (P) Ltd.

V V Marine Products

Vasista Marine

Veerabhadra Exports Private Limited

Wellcome Fisheries Limited

West Coast Fine Foods (India) Private Limited

West Coast Frozen Foods Private Limited

Appendix II

Abad Fisheries

Albys Agro Private Limited

Allana Frozen Foods Pvt. Ltd.

Allanasons Ltd.

Amarsagar Seafoods Private Limited

AMI Enterprises

Amulya Seafoods

Anatha Seafoods Private Limited

Angelique International Ltd.

Ayshwarya Seafood Private Limited

B R Traders

Baby Marine Eastern Exports

Baby Marine Exports

Baby Marine International

Baby Marine Sarass

Baby Marine Ventures

Balasore Marine Exports Private Limited

Bell Exim Private Limited (Bell Foods (Marine Division))

Bhatsons Aquatic Products

Bhavani Seafoods

Bijaya Marine Products

Blue Fin Frozen Foods Pvt. Ltd.

Blue Water Foods & Exports P. Ltd.

B-One Business House Pvt. Ltd.

Britto Seafood Exports Pvt Ltd.

Canaan Marine Products

Capithan Exporting Co.

Cargomar Private Limited

Chakri Fisheries Private Limited

Chemmeens (Regd)

Cherukattu Industries (Marine Div)

Cochin Frozen Food Exports Pvt. Ltd.

Continental Fisheries India Private Limited

Coreline Exports

Corlim Marine Exports Pvt. Ltd.

Crystal Sea Foods Private Limited

D2 D Logistics Private Limited

Damco India Private

Delsea Exports Pvt. Ltd.

Devi Sea Foods Limited ¹⁶

¹⁶ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

Entel Food Products Private Limited

Esmario Export Enterprises

Everblue Sea Foods Private Limited

Exporter Coreline Exports

Febin Marine Foods

Five Star Marine Exports Private Limited

Forstar Frozen Foods Pvt. Ltd.

Fouress Food Products Private Limited

Frontline Exports Pvt. Ltd.

G A Randerian Ltd.

Gadre Marine Exports

Galaxy Maritech Exports P. Ltd.

Geo Aquatic Products (P) Ltd.

Goodwill Enterprises

Grandtrust Overseas (P) Ltd.

Green House Agro Products

GVR Exports Pvt. Ltd.

Hari Marine Private Limited

Haripriya Marine Export Pvt. Ltd.

Harmony Spices Pvt. Ltd.

HIC ABF Special Foods Pvt. Ltd.

Hindustan Lever, Ltd.

Hiravata Ice & Cold Storage

Hiravati Exports Pvt. Ltd.

Hiravati International Pvt. Ltd. (located at APM-Mafco Yard, Sector-18, Vashi, Navi, Mumbai-400 705, India)

Hiravati International Pvt. Ltd. (located at Jawar Naka, Porbandar, Gujarat, 360 575, India)

Hiravati Marine Products Private Limited

HN Indigos Private Limited

Hyson Logistics and Marine Exports Private Limited

Indian Aquatic Products

Indo Aquatics

Indo Fisheries

Indo French Shellfish Company Private Limited

Innovative Foods Limited

International Freezefish Exports

Interseas

Jinny Marine Traders

Jiya Packagings

Kalyanee Marine

Kanch Ghar

Karunya Marine Exports Private Limited

Kaushalya Aqua Marine Product Exports Pvt. Ltd.

Kay Kay Exports

Kings Marine Products

Koluthara Exports Ltd.

Landauer Ltd.

Libran Cold Storages (P) Ltd.

Magnum Export

Malabar Arabian Fisheries

Malnad Exports Pvt. Ltd.

Mangala Sea Products

Marine Harvest India

Meenaxi Fisheries Pvt. Ltd.

Megaa Moda Pvt. Ltd.

Milsha Agro Exports Private Limited

Mourya Aquex Pvt. Ltd.

MTR Foods

N.C. John & Sons (P) Ltd.

Naik Frozen Foods

Naik Oceanic Exports Pvt. Ltd./Rafiq Naik Exports Pvt. Ltd.¹⁷

¹⁷ In past reviews, Commerce has treated these companies as a single entity. See, e.g., 2016-2017 AR Final. Absent information to the contrary, we continue to treat these companies as a single entity for purposes of this administrative review.

Naik Seafoods Ltd.

Nekkanti Mega Food Park Private Limited

Nine Up Frozen Foods

Nutrient Marine Foods Limited

Oceanic Edibles International Limited

Paragon Sea Foods Pvt. Ltd.

Paramount Seafoods

Parayil Food Products Pvt., Ltd.

Pesca Marine Products Pvt., Ltd.

Pijikay International Exports P Ltd.

Pisces Seafoods International

Pravesh Seafood Private Limited

Premier Exports International

Premier Marine Foods

Premier Seafoods Exim (P) Ltd.

R F Exports

R V R Marine Products Limited

Raa Systems Pvt. Ltd.

Raju Exports

Raunaq Ice & Cold Storage

Raysons Aquatics Pvt. Ltd.

Razban Seafoods Ltd.

RBT Exports

RDR Exports

RF Exports Private Limited

Riviera Exports Pvt. Ltd.

Rohi Marine Private Ltd.

Royal Imports and Exports

RSA Marines

S & S Seafoods

S Chanchala Combines

Safa Enterprises

Sagar Foods

Sagar Samrat Seafoods

Sagravihar Fisheries Pvt. Ltd.

Salvam Exports (P) Ltd.

Samaki Exports Private Limited

Sanchita Marine Products P Limited

Santhi Fisheries & Exports Ltd.

Sarveshwari Exp.

Sea Foods Private Limited

Sea Gold Overseas Pvt. Ltd.

Selvam Exports Private Limited

Sharma Industries

Shimpo Exports Private Limited

Shimpo Seafoods Private Limited

Shiva Frozen Food Exp. Pvt. Ltd.

Shroff Processed Food & Cold Storage P Ltd.

Silver Seafood

Sita Marine Exports

Sowmya Agri Marine Exports

Sri Sakkthi Cold Storage

Sri Venkata Padmavathi Marine Foods Pvt. Ltd.

Srikanth International ¹⁸

¹⁸ On August 27, 2010, Srikanth International was found to be the successor-in-interest to NGR Aqua International. See Certain Warmwater Shrimp from India: Final Results of Antidumping Duty Changed Circumstances Review, 75 FR 52718 (August 27, 2010). Therefore, we did not initiate a separate administrative review with respect to NGR Aqua International.

SSF Ltd.

Star Agro Marine Exports Private Limited

Star Organic Foods Incorporated

Star Organic Foods Private Limited

Stellar Marine Foods Private Limited

Sterling Foods

Sun Agro Exim

Sun-Bio Technology Ltd.

Supran Exim Private Limited

Suvarna Rekha Exports Private Limited

Suvarna Rekha Marine P Ltd.

TBR Exports Pvt Ltd.

Teekay Marine P. Ltd.

The Waterbase Limited

Triveni Fisheries P. Ltd.

U & Company Marine Exports

Ulka Sea Foods Private Limited

Uniroyal Marine Exports Ltd.

Unitriveni Overseas

V.S Exim Pvt Ltd.

Vasai Frozen Food Co.

Veejay Impex

Veronica Marine Exports Private Limited

Victoria Marine & Agro Exports Ltd.

Vinner Marine

Vitality Aquaculture Pvt. Ltd.

VRC Marine Foods LLP

Z A Sea Foods Pvt. Ltd.

Zeal Aqua Limited

[FR Doc. 2019-24798 Filed 11-14-19; 8:45 am]

BILLING CODE 3510-DS-P